INTERNATIONAL TRADE COMMISSION

[Investigation No. 337-TA-1014]

Certain Composite Intermediate Bulk Containers; Commission Determination Not To Review an Initial Determination Terminating the Investigation Based on the Withdrawal of the Complaint; Termination of the Investigation

AGENCY: U.S. International Trade Commission.

ACTION: Notice.

SUMMARY: Notice is hereby given that the U.S. International Trade Commission (the “Commission”) has determined not to review a February 22, 2017, initial determination (“ID”) (Order No. 13) granting an unopposed motion to terminate the investigation based on the withdrawal of the complaint. This investigation is terminated.

FOR FURTHER INFORMATION CONTACT: Ron Traud, Office of the General Counsel, U.S. International Trade Commission, 500 E Street SW., Washington, DC 20436, telephone (202) 205-3427. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (https://www.usitc.gov). The public record for this investigation may be viewed on the Commission's Electronic Docket Information System (“EDIS”) (https://edis.usitc.gov). Hearing-impaired persons are advised that information on this matter can be obtained by contacting the Commission's TDD terminal, telephone (202) 205-1810.

SUPPLEMENTARY INFORMATION: On July 27, 2016, the Commission instituted this investigation based on a complaint filed by Schütz Container Systems Inc. (“Schütz”) of North Branch, New Jersey. 81 FR 49265. The complaint alleges violations of section 337 of the Tariff Act of 1930, as amended, 19 U.S.C. 1337 (“section 337”) based upon the importation into the United States or sale of certain composite intermediate bulk containers by reason of infringement of certain trade dress, the threat or effect of which is to substantially destroy or injure a domestic industry. Id. The Commission's Notice of Investigation named as the sole respondent Zhenjiang Runzhou Jinshan Packaging Factory (“Zhenjiang”) of Hengshun Zhenjiang, China. Id. The Office of Unfair Import Investigations was also named as a party to this investigation. Id.

On February 22, 2017, the administrative law judge (“ALJ”) issued Order No. 13, the subject ID, which granted an unopposed motion filed by Schütz to terminate the investigation based on the withdrawal of the complaint. The ALJ found that the motion complied with the Commission's rules for the termination of investigations, that no extraordinary circumstances prevented the termination of the investigation, and that termination of the investigation is in the public interest. No party filed a petition seeking review of the subject ID.

The Commission has determined not to review the subject ID. This investigation is terminated.

The authority for the Commission's determination is contained in section 337 of the Tariff Act of 1930, as amended (19 U.S.C. 1337), and in part 210 of the Commission's Rules of Practice and Procedure (19 CFR part 210).

By order of the Commission.
Issued: March 22, 2017.
Lisa R. Barton,
Secretary to the Commission.

[FR Doc. 2017-05955 Filed 3-24-17; 8:45 am]

BILLING CODE 7020-02-P